DEPARTMENT OF ENERGY

Federal Energy Regulatory Commission

[Docket No. PF07-16-000]

UGI LNG, Inc.; Notice of Intent To Prepare an Environmental Assessment for the Proposed Temple LNG Plant Expansion Project and Request for Comments on Environmental Issues

January 15, 2008.

The staff of the Federal Energy Regulatory Commission (FERC or Commission) will prepare an environmental assessment (EA) that will discuss the environmental impacts of the proposed Temple LNG Plant Expansion Project involving construction and operation of facilities by UGI LNG, Inc. (UGI LNG) in Ontelaunee Township, Berks County, Pennsylvania. The EA will be used by the Commission in its decisionmaking process to determine whether the project is in the public convenience and necessity.

This notice announces the opening of the scoping process the Commission will use to gather input from the public and interested agencies on the project. Your input will help determine which issues need to be evaluated in the EA. Please note that the scoping period for this Notice will close on February 18, 2008. Details on how to submit comments are provided in the Public Participation section of this notice. Further notice will be issued in the near future regarding any local public comment meetings to be held by the Commission staff.

This notice is being sent to affected landowners; federal, state, and local government representatives and agencies; elected officials; other interested parties; and local libraries and newspapers. State and local government representatives are asked to notify their constituents of this proposed project and to encourage them to comment on their areas of concern.

A brochure prepared by the FERC entitled “A Guide to LNG—What All Citizens Should Know” is available for viewing on the FERC Internet Web site (http://www.ferc.gov). This brochure addresses a number of typically asked questions, including what is LNG and how is it transported.

Summary of the Proposed Project

UGI LNG proposes to expand its existing Temple LNG Plant in Ontelaunee Township, Berks County, Pennsylvania (see map in Appendix 1¹). The expansion would consist of adding one LNG storage tank with a net working capacity of 50,000 cubic meters.

¹ The appendices referenced in this notice are not being printed in the Federal Register. Copies are available from the Commission's Web site at the eLibrary link or from the Commission's Public Reference Room or by calling (202) 502-8371. For instructions on connecting to eLibrary refer to the public participation section of this notice. For instructions on connecting to eLibrary, refer to the “Additional Information” section at the end of this notice. Copies of the appendices were sent to all those receiving this notice in the mail. Requests for detailed maps of the proposed facilities should be made directly to UGI LNG.

Specifically, UGI LNG seeks authority to construct and operate the following facilities:

• One full-containment LNG storage tank with a net working capacity of 50,000 cubic meters (314,500 barrels);

• Three vapor return blowers;

• Two boil-off gas compressors;

• Six LNG send out pumps;

• Six submerged combustion vaporizers;

• A shell-and-tube gas-to-gas exchanger;

• Send-out pipeline connecting the new LNG tank to the existing Texas Eastern Transmission Corporation (TETCO) pipeline; and

• A control building.

Land Requirements

It is estimated that construction of the project would disturb about 15 acres of land. This land is within the existing plant site owned by UGI LNG and on adjacent existing right-of-way controlled by TETCO.

The EA Process

We ² are preparing this EA to comply with the National Environmental Policy Act (NEPA) which requires the Commission to take into account the environmental impact that could result if it authorizes UGI LNG's proposal. By this notice, we are also asking federal, state, and local agencies with jurisdiction and/or special expertise with respect to environmental issues to formally cooperate with us in the preparation of the EA.

² “We,” “us,” and “our” refer to the environmental staff of the FERC's Office of Energy Projects.

Agencies that would like to request cooperating status should follow the instructions for filing comments provided below.

The purpose of the Pre-filing Process is to seek public and agency input early in the project planning phase and encourage involvement by interested stakeholders in a manner that allows for the early identification and resolution of environmental issues. We will work with all interested stakeholders to identify and attempt to address issues before UGI LNG files its application with the FERC. A diagram depicting the environmental review process for the proposed project is attached to this notice as Appendix 2.

NEPA also requires the FERC to discover and address concerns the public may have about proposals. This process is referred to as “scoping.” The main goal of the scoping process is to focus the analysis in the EA on the important environmental issues. By this Notice of Intent, we are requesting public comments on the scope of the issues to address in the EA. All comments received will be considered during the preparation of the EA. As part of the Pre-filing Process review, FERC staff representatives participated in a public open house sponsored by UGI LNG in the project area on December 18, 2007, to explain the environmental review process to interested stakeholders and take comments about the project.

The EA will discuss impacts that could occur as a result of the construction and operation of the proposed project under these general headings:

• Geology and soils.

• Wetlands and waterbodies.

• Land use.

• Cultural resources.

• Vegetation and wildlife (including sensitive species).

• Air and noise quality.

• Reliability, safety and security.

Our independent analysis of the issues will be in the EA which will be published and mailed to Federal, State, and local agencies, interested individuals who return the Information Request Form in Appendix 3, and the Commission's official service list for this proceeding. A comment period will be allotted for review when the EA is published. We will consider all comments on the EA before we make our recommendations to the Commission.

Although no formal application has been filed, the FERC staff has already initiated its NEPA review under its Pre-filing Process. The purpose of the Pre-filing Process is to encourage the early involvement of interested stakeholders and to identify and resolve issues before an application is filed with the FERC. Once a formal application is filed with the FERC, a new docket number will be established.

Public Participation

You can make a difference by providing us with your specific comments or concerns about the project. By becoming a commentor, your concerns will be addressed in the EA and considered by the Commission. You should focus on the potential environmental effects of the proposal, reasonable alternatives to the proposal including alternative locations and routes, and measures to avoid or lessen environmental impact. The more specific your comments, the more useful they will be. Please carefully follow these instructions to ensure that your comments are received in time and properly recorded:

• Send an original and two copies of your letter to: Kimberly D. Bose, Secretary, Federal Energy Regulatory Commission, 888 First St., NE., Room 1A, Washington, DC 20426.

• Label one copy of the comments for the attention of Gas Branch 3.

• Reference Docket No. PF07-16-000.

• Mail your comments so that they will be received in Washington, DC on or before February 18, 2008.

The Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

If you are interested in receiving a copy of the EA, please return the Information Request (Appendix 3). If you do not return the Information Request, you will be taken off the mailing list.

Once UGI LNG formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Additional Information

Additional information about the project is available from the Commission's Office of External Affairs, at 1-866-208-FERC or on the FERC Internet Web site (www.ferc.gov) using the “eLibrary” link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Kimberly D. Bose,
Secretary.

BILLING CODE 6717-01-P

[FR Doc. E8-965 Filed 1-18-08; 8:45 am]

BILLING CODE 6717-01-C